DEPARTMENT OF HEALTH AND HUMAN SERVICES

Centers for Disease Control and Prevention

Request for Information on Source Capture Ventilation Systems (SCVS) Units for Use in Nail Salons, Including Downdraft Vented Nail Tables and Portable SCVS

AGENCY: National Institute for Occupational Safety and Health (NIOSH) of the Centers for Disease Control and Prevention (CDC), Department of Health and Human Services (HHS).

ACTION: Request for information.

SUMMARY: The National Institute for Occupational Safety and Health (NIOSH) of the Centers for Disease Control and Prevention (CDC) is conducting an evaluation of source capture ventilation systems (SCVS) units for use in nail salons, including downdraft vented nail tables and portable SCVS. This notice invites developers, manufacturers, distributors, and vendors of downdraft vented nail tables and portable nail salon SCVS that feature local exhaust recirculation to submit new, unused units for evaluation. A supply of filters sufficient to provide ventilation during 6 months of daily operation (as recommended by the developer or manufacturer), should be submitted to the NIOSH laboratory in Cincinnati, OH, together with the table or portable SCVS.

Operational characteristics and effectiveness in reducing levels of a source point tracer gas at standard distances from the vent will be evaluated. Evaluation parameters for the units will include, but are not limited to: Airflow and capture characteristics, and noise level. A separate evaluation of filters when new and at intervals of use will also be conducted. Manufacturers, distributors, vendors and developers who wish to submit units with filters for evaluation are invited to respond to this announcement. A report on each unit submitted for evaluation, including feedback on the evaluation parameters and staff recommendations, will be sent to the submitter. Results of the evaluation will potentially be used to develop educational materials for nail technicians and may also be disseminated through reports, publications, presentations, or other media. NIOSH does not intend to identify manufacturers in its publications, but testing information referencing particular manufacturers would be releasable if requested under the Freedom of Information Act.

DATES: The deadline for receipt of downdraft vented nail table and portable SCVS unit (with filters) submissions at NIOSH is February 28, 2010. A written description of the units must be submitted prior to table shipment (see SUPPLEMENTARY INFORMATION below). Evaluations will begin subject to the dates submissions are received. The SCVS will be retained for up to 10 months while being evaluated, after which they will be returned.

ADDRESSES: Manufacturers, distributors, vendors, and developers who wish to submit downdraft vented nail table or portable SCVS units with filters for evaluation are invited to respond to this notice by sending a written reply to Susan Reutman, NIOSH, Robert A. Taft Laboratories, MS-C23, 4676 Columbia Parkway, Cincinnati, OH 45226 or e-mail SReutman@cdc.gov.

SUPPLEMENTARY INFORMATION: Please respond to Susan Reutman regarding intent to submit a unit and the written unit description, including the manufacturer, schedule of availability of the unit and filters for evaluation, and a statement of the terms under which the SCVS will be made available for evaluation, and shipment date. Shipping and handling costs (including insurance) to ship the table or portable SCVS units to NIOSH and for NIOSH to return the units to the submitter will be the responsibility of the submitter. NIOSH reserves the right to decide which submissions will be evaluated based on compliance with the specifications described above. NIOSH also reserves the right not to proceed in this manner.

Note: As a government entity, we cannot endorse any specific product directly, indirectly, or by implication. NIOSH will not be responsible for any costs related to usage, wear and tear or accidental damage to the downdraft table or portable SCVS units during transport or while they are at NIOSH. Used filters will not be returned or replaced by NIOSH.

FOR FURTHER INFORMATION CONTACT: Susan Reutman, NIOSH, Robert A. Taft Laboratories, MS-C23, 4676 Columbia Parkway, Cincinnati, OH 45226, telephone (513) 533-8286.

Dated: November 6, 2009.
John Howard,
Director, National Institute for Occupational Safety and Health, Centers for Disease Control and Prevention.

[FR Doc. E9-27387 Filed 11-13-09; 8:45 am]

BILLING CODE 4163-19-P